FEDERAL RESERVE SYSTEM

Sunshine Act Meeting

AGENCY: Board of Governors of the Federal Reserve System.

Federal Register Citation of Previous Announcement: 68 FR 2137, April 30, 2003.

Previously Announced Time and Date of the Meeting: 12 noon, Monday, May 5, 2003.

Changes in the Meeting: Addition of the following closed item(s) to the meeting: Discussion of classified security matter.

FOR FURTHER INFORMATION CONTACT: Michelle A. Smith, Assistant to the Board; 202-452-2955.

SUPPLEMENTARY INFORMATION: You may call 202-452-3206 beginning at approximately 5 p.m. two business days before the meeting for a recorded announcement of bank and bank holding company applications scheduled for the meeting; or you may contact the Board's Web site at http://www.federalreserve.gov for an electronic announcement that not only lists applications, but also indicates procedural and other information about the meeting.

Dated: May 5, 2003.
Jennifer J. Johnson,
Secretary of the Board.

[FR Doc. 03-11519 Filed 5-5-03; 4:01 pm]

BILLING CODE 6210-01-P